DEPARTMENT OF ENERGY

Federal Energy Regulatory Commission

[Docket No. RP03-589-000]

Iroquois Gas Transmission System, L.P.; Notice of Proposed Changes in FERC Gas Tariff and of Offer of Settlement

September 9, 2003.

Take notice that on August 29, 2003, Iroquois Gas Transmission System, L.P. (Iroquois) tendered for filing as part of its FERC Gas Tariff, First Revised Volume No. 1, Twenty-Ninth Revised Sheet No. 4, proposed to become effective October 28, 2003.

Iroquois states that the purpose of its filing is to implement the terms of a Stipulation and Settlement Agreement (Settlement) filed concurrently with, and as a part of, the instant tariff filing. In accordance with the Settlement, the revised tariff sheet establishes four annual reductions to Iroquois' rates in the years 2004, 2005, 2006, and 2007, which over the term of the Settlement will reduce Iroquois' transportation rates by approximately 13% (e.g., the 100% load factor interzone rate will be reduced from the existing level of $0.4234, to the January 1, 2007, level of $0.3700, for a total cumulative reduction of $0.0534).

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. We are also providing below dates for filing initial comments and reply comments on the offer of settlement. The Commission strongly encourages electronic filings. See 18 CFR 385.2001(a)(1)(iii) and the instructions on the Commission's Web site under the “e-Filing” link.

Interventions, Protest and Initial Comments are due by: September 18, 2003.
Reply Comments are due by: September 29, 2003.
Magalie R. Salas,
Secretary.

[FR Doc. 03-23411 Filed 9-12-03; 8:45 am]

BILLING CODE 6717-01-P